Proclamation 10919 of April 17, 2025

250th Anniversary of the Battles of Lexington and Concord

By the President of the United States of America

A Proclamation

Two and a half centuries ago, a small band of minutemen answered the call of freedom in the legendary Battles of Lexington and Concord, an epic tale of American strength and the first major armed conflict of the Revolutionary War. We honor the memories, remember the sacrifices, and summon the courage of every hero of liberty who gallantly shed his blood for the cause of independence on April 19, 1775.

After years of intensifying frictions and escalating hostility between the British Crown and the American Colonies, all avenues to peace and diplomacy had been exhausted, and it became clear to the patriots that war was inevitable. Following the Boston Massacre, the oppressive Intolerable Acts, and the lasting grievance of taxation without representation, the colonists began organizing militias as a final recourse in defense of their right to self-government.

The British regime's reign of tyranny reached a breaking point when, in his fearless midnight ride from Boston, Massachusetts, Paul Revere announced the news that the Redcoats were marching to Concord, Massachusetts, to arrest Colonial leaders and seize American arms. By the time they reached Lexington at dawn, the British encountered 77 intrepid American minutemen, led by Captain John Parker, boldly standing their ground in defense of their independence. The surprised British fired a volley, mortally wounding eight American patriots—the very first American soldiers to lay down their lives for our emerging Nation.

The British ambush at Lexington became known as the “shot heard 'round the world,” prompting thousands of brave young men to leave behind their homes and livelihoods to fight for our freedom on the frontlines of the American Revolution—commencing the greatest fight for liberty in the history of the world.

Later that morning, the Redcoats arrived at Concord to find and set fire to patriot military supplies. At the sight of rising smoke from atop a lofty hill, the colonists believed the Redcoats were burning the town, provoking them to advance to the North Bridge. As Captain Isaac Davis, whose company stood at the front of the column, said of his soldiers gearing up to take on the Redcoats, “I haven't a man who is afraid to go.”

As 400 daring militiamen descended down Punkatasset Hill toward the North Bridge, the startled British opened fire, killing 49 Americans, including Captain Davis. “Fire, fellow soldiers, for God's sake, fire!” shouted Major John Buttrick of the Concord militia at the sound of the discharging muskets—sending the British running back to Boston in retreat in a resounding victory for Colonial forces. For the next 12 miles, the patriots relentlessly pursued the Redcoats, ambushing them from behind trees, walls, and other cover. As one British soldier is said to have recalled, the Americans “fought like bears, and I would as soon storm hell as fight them again.”

April 19, 1775, stands to this day as a seminal milestone in our Nation's righteous crusade for liberty and independence. On this day 250 years ago, with the fire of freedom blazing in their souls, an extraordinary army of American minutemen defeated one of the mightiest armies on the face of the earth and laid the foundation for America's ultimate triumph over tyranny.

Two and a half centuries later, their fortitude remains our inheritance, their resolve remains our birthright, and their unwavering loyalty to God and country remains the duty of every American patriot. As we approach the 250th anniversary of our Nation's independence next year, we honor the valiant men who fought in defense of their sacred right to self-government, we renew our pledge to restore our republic to all of its greatness and glory, and we commit to rebuilding a country and a culture that inspires pride in our past and faith in our future.

NOW, THEREFORE, I, DONALD J. TRUMP, President of the United States of America, by virtue of the authority vested in me by the Constitution and the laws of the United States, do hereby proclaim April 19, 2025, as a day in commemoration of the 250th anniversary of the Battles of Lexington and Concord and the beginning of the American Revolutionary War.

IN WITNESS WHEREOF, I have hereunto set my hand this seventeenth day of April, in the year of our Lord two thousand twenty-five, and of the Independence of the United States of America the two hundred and forty-ninth.

[FR Doc. 2025-07061

Filed 4-21-25; 11:15 am]

Billing code 3395-F4-P